DEPARTMENT OF LABOR

Employment And Training Administration

[TA-W-56,966]

U.S. Amps, Inc., Including On-Site Leased Workers of Gevity HR, Gainesville, FL; Amended Certification Regarding Eligibility To Apply for Worker Adjustment Assistance and Negative Determination Regarding Eligibility To Apply for Alternative Trade Adjustment Assistance

In accordance with section 223 of the Trade Act of 1974 (19 U.S.C. 2273), and under section 246 of the Trade Act of 1974, as amended, the Department of Labor issued a Certification of Eligibility to Apply for Worker Adjustment Assistance and a Negative Determination Regarding Eligibility to Apply For Alternative Trade Adjustment Assistance on June 3, 2005, applicable to workers of U.S. Amps Inc., Gainesville, Florida. The notice will soon be published in the Federal Register.

At the request of the State Agency, the Department reviewed the certification for workers of the subject firm. The workers are engaged in the production of car stereo amplifiers.

The review of the certification confirms that the Department inadvertently failed to include the on-site leased workers in the certification. U.S. Amps Inc., Gainesville, Florida leased employees from Gevity HR, Gainesville, Florida, to work on-site at plant.

Therefore, the Department is amended the certification to include the leased workers from Gevity HR working on-site at U.S. Amps Inc., Gainesville, Florida.

The amended notice applicable to TA-W-55,966 is hereby issued as follows:

All workers of U.S. Amps, Inc. including on-site leased workers from Gevity HR, Gainesville, Florida, including on-site leased workers from Gevity HR, who became totally or partially separated from employment on or after April 8, 2004, through June 3, 2007, are eligible to apply for adjustment assistance under section 223 of the Trade Act of 1974;

and

I further determine that all workers of U.S. Amps, Inc., including on-site leased workers from Gevity HR, Gainesville, Florida, are denied eligibility to apply for alternative trade adjustment assistance under Section 246 of the Trade Act of 1974.

Signed in Washington, DC, this 17th day of June, 2005.
Linda G. Poole,
Certifying Officer, Division of Trade Adjustment Assistance.

[FR Doc. E5-3356 Filed 6-27-05; 8:45 am]

BILLING CODE 4510-30-P